DEPARTMENT OF TRANSPORTATION

Federal Aviation Administration

14 CFR Part 39

[Docket No. 99-NM-354-AD; Amendment 39-11864; AD 2000-16-09]

RIN 2120-AA64

Airworthiness Directives; Saab Model SAAB 340B and SAAB 2000 Series Airplanes

AGENCY: Federal Aviation Administration, DOT.

ACTION: Final rule.

SUMMARY: This amendment supersedes an existing airworthiness directive (AD), applicable to certain Saab Model SAAB 340B and SAAB 2000 series airplanes, that currently requires various inspections of fluorescent lamps and lampholders in the cabin area for discrepancies; corrections, if necessary; and reinspection of the lamps to ensure correct installation after replacement or reinstallation of the lamps. This amendment requires replacement of the electronic light ballasts with improved ballasts, which terminates the reinspections, and expands the applicability of the existing AD. This amendment is prompted by issuance of mandatory continuing airworthiness information by a foreign civil airworthiness authority. The actions specified by this AD are intended to prevent electrical arcing between the fluorescent tube pins and the lampholders, which could burn the surrounding area and lead to smoke and fumes in the passenger compartment or lavatory area.

DATES: Effective September 20, 2000.

The incorporation by reference of certain publications, as listed in the regulations, is approved by the Director of the Federal Register as of September 20, 2000.

The incorporation by reference of certain other publications, as listed in the regulations, was approved previously by the Director of the Federal Register as of July 7, 1997 (62 FR 33545, June 20, 1997).

ADDRESSES: The service information referenced in this AD may be obtained from SAAB Aircraft AB, SAAB Aircraft Product Support, S-581.88, Linköping, Sweden. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 97-13-06, amendment 39-10052 (62 FR 33545, June 20 1997), which is applicable to certain Saab Model SAAB 340B and SAAB 2000 series airplanes, was published as a supplemental notice of proposed rulemaking (NPRM) in the Federal Register on June 13, 2000 (65 FR 37087). The action proposed to continue to require various inspections of fluorescent lamps and lampholders in the cabin area for discrepancies; corrections, if necessary; and reinspection of the lamps to ensure correct installation after replacement or reinstallation of the lamps or lampholders. The action also proposed to require replacement of the electronic light ballasts with improved ballasts, which terminates the reinspections, and to expand the applicability of the existing AD.

Comments

Interested persons have been afforded an opportunity to participate in the making of this amendment. No comments were submitted in response to the proposal or the FAA's determination of the cost to the public.

Conclusion

The FAA has determined that air safety and the public interest require the adoption of the rule as proposed.

Cost Impact

There are approximately 78 airplanes of U.S. registry that will be affected by this AD.

The actions that are currently required by AD 97-13-06 take approximately 7 work hours per airplane to accomplish, at an average labor rate of $60 per work hour. Based on these figures, the cost impact of the currently required actions on U.S. operators is estimated to be $420 per airplane.

The new actions that are required in this AD will take as much as 9 work hours per airplane to accomplish, at an average labor rate of $60 per work hour. Required parts will be provided free of charge by the manufacturer. Based on these figures, the cost impact of the new requirements of this AD on U.S. operators is estimated to be as much as $42,120, or $540 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10052 (62 FR 33545, June 20, 1997), and by adding a new airworthiness directive (AD), amendment 39-11864, to read as follows:

2000-16-09 SAAB Aircraft AB: Amendment 39-11864. Docket 99-NM-354-AD. Supersedes AD 97-13-06, Amendment 39-10052.

Applicability: This AD applies to the following airplanes:

Model SAAB 340B series airplanes having serial numbers -342 and -359 through -460 inclusive, certificated in any category; except those on which Saab Service Bulletin 340-33-048, Revision 01, dated January 21, 1999 (Saab Modification No. 2936), has been incorporated; and

Model SAAB 2000 series airplanes having serial numbers -004 through -063 inclusive, certificated in any category; except those on which Saab Service Bulletin 2000-33-015, dated January 29, 1999 (Saab Modification No. 6148), has been incorporated.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (f)(1) of this AD. The request should include an assessment of the effect of the modification, alteration, or repair on the unsafe condition addressed by this AD; and, if the unsafe condition has not been eliminated, the request should include specific proposed actions to address it.

Compliance: Required as indicated, unless accomplished previously.

To prevent electrical arcing between the fluorescent tube pins and the lampholders, which could burn the surrounding area, accomplish the following:

Restatement of Requirements of AD 97-13-06:

Inspections

(a) For Model SAAB 340B series airplanes having serial numbers -342 and -359 through -439 inclusive; and Model SAAB 2000 series airplanes having serial numbers -004 through -059 inclusive: Within 30 days after July 7, 1997 (the effective date of AD 97-13-06, amendment 39-10052), accomplish the actions required by paragraphs (a)(1), (a)(2), and (a)(3), as applicable.

(1) For all airplanes: Inspect the fluorescent lamps installed in the ceiling/window of the lavatory and passenger compartment to ensure correct installation; and inspect the lampholders for discrepancies such as discoloration, evidence of electrical arcing at the light tube pins, charring or melting, or insecure back covers; in accordance with Saab Service Bulletin 340-33-047, dated May 16, 1997 (for Model SAAB 340B series airplanes); or Saab Service Bulletin 2000-33-014, dated May 16, 1997 (for Model SAAB 2000 series airplanes); as applicable.

(i) If any lamp is installed incorrectly, prior to further flight, install the lamp correctly in accordance with the applicable service bulletin.

(ii) If any discrepancy is found, prior to further flight, replace the lampholder with a new lampholder in accordance with the applicable service bulletin.

(2) For Model SAAB 340B series airplanes on which a Page Aerospace lampholder having part number (P/N) D756-02-001 is installed: Install a retaining clip in accordance with Saab Service Bulletin 340-33-040, Revision 02, dated February 20, 1997.

Note 2: Installation of retaining clips on Page Aerospace lampholders that was accomplished prior to July 7, 1997, in accordance with Saab Service Bulletin 340-33-040, Revision 01, dated January 31, 1997, also is considered acceptable for compliance with the requirement of paragraph (a)(2) of this AD.

(3) For Model SAAB 2000 series airplanes on which a Page Aerospace lampholder having P/N C756-10-001 is installed: Install a retaining clip in accordance with Saab Service Bulletin 2000-33-009, dated June 19, 1996.

Reinspections Following Replacement or Reinstallation

(b) Following the accomplishment of the requirements of paragraph (a) or paragraph (c) of this AD: If any fluorescent lamp or lampholder is replaced or reinstalled, within 7 days after accomplishing such replacement or reinstallation, reinspect the lamp to ensure it is still in the correct position, in accordance with Saab Service Bulletin 340-33-047, dated May 16, 1997, or Revision 01, dated June 26, 1998 (for Model SAAB 340B series airplanes); or Saab Service Bulletin 2000-33-014, dated May 16, 1997 (for Model SAAB 2000 series airplanes); as applicable. If any lamp is installed incorrectly, prior to further flight, make corrections to ensure correct installation in accordance with the applicable service bulletin.

New Requirements of This AD

Inspections for Additional Airplanes

(c) For airplanes other than those specified in paragraph (a) of this AD: Within 30 days after the effective date of this AD, accomplish the requirements of paragraph (a) of this AD, and thereafter accomplish the requirements of paragraph (b) of this AD.

Terminating Modification

(d) For all airplanes: Within 18 months after the effective date of this AD, accomplish the requirements of paragraph (d)(1) or (d)(2) of this AD, as applicable. Accomplishment of the actions required by the applicable paragraph constitutes terminating action for the requirements of this AD.

(1) For Model SAAB 340B series airplanes: Replace the electronic light ballasts with improved ballasts, in accordance with Saab Service Bulletin 340-33-048, Revision 01, dated January 21, 1999. Concurrent with the replacement, modify the ballasts to ensure sufficient clearance between the ballast and certain transistors, in accordance with Saab Service Bulletin 340-33-049, Revision 02, dated February 2, 2000.

(2) For Model SAAB 2000 series airplanes: Replace the electronic light ballasts with improved ballasts, in accordance with Saab Service Bulletin 2000-33-015, dated January 29, 1999.

Note 3: Modification of the ballasts for sufficient clearance in accordance with Saab Service Bulletin 340-33-049, Revision 01, dated November 15, 1999, is acceptable for compliance with the modification requirement of paragraph (d)(1) of the AD.

Spares

(e) As of the effective date of this AD, no person shall install a fluorescent lampholder having Page Aerospace P/N D756-02-001 or Page Aerospace P/N C756-10-001 on any Model SAAB 340B or SAAB 2000 series airplane, unless the lampholder has been modified in accordance with the requirements of paragraph (a)(2) or (a)(3) of this AD, as applicable.

Alternative Methods of Compliance

(f)(1) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

(2) Alternative methods of compliance, approved previously in accordance with AD 97-13-06, amendment 39-10052, are approved as alternative methods of compliance with this AD.

Note 4: Information concerning the existence of approved alternative methods of compliance with this AD, if any, may be obtained from the International Branch, ANM-116.

Special Flight Permits

(g) Special flight permits may be issued in accordance with sections 21.197 and 21.199 of the Federal Aviation Regulations (14 CFR 21.197 and 21.199) to operate the airplane to a location where the requirements of this AD can be accomplished.

Incorporation by Reference

(h) The actions shall be done in accordance with Saab Service Bulletin 340-33-047, dated May 16, 1997; Saab Service Bulletin 340-33-047, Revision 01, dated June 26, 1998; Saab Service Bulletin 2000-33-014, dated May 16, 1997; Saab Service Bulletin 340-33-040, Revision 02, dated February 20, 1997; Saab Service Bulletin 2000-33-009, dated June 19, 1996; Saab Service Bulletin 340-33-048, Revision 01, dated January 21, 1999; Saab Service Bulletin 340-33-049, Revision 02, dated February 2, 2000; and Saab Service Bulletin 2000-33-015, dated January 29, 1999; as applicable.

(1) The incorporation by reference of Saab Service Bulletin 340-33-047, Revision 01, dated June 26, 1998; Saab Service Bulletin 340-33-048, Revision 01, dated January 21, 1999; Saab Service Bulletin 340-33-049, Revision 02, dated February 2, 2000; Saab Service Bulletin 2000-33-015, dated January 29, 1999 is approved by the Director of the Federal Register in accordance with 5 U.S.C. 552(a) and 1 CFR part 51.

(2) The incorporation by reference of Saab Service Bulletin 340-33-047, dated May 16, 1997; Saab Service Bulletin 340-33-040, Revision 02, dated February 20, 1997; Saab Service Bulletin 2000-33-014, dated May 16, 1997; and Saab Service Bulletin 2000-33-009, dated June 19, 1996; was approved previously by the Director of the Federal Register as of July 7, 1997 (62 FR 33545, June 20, 1997).

(3) Copies may be obtained from Saab Aircraft AB, SAAB Aircraft Product Support, S-581.88, Linköping, Sweden. Copies may be inspected at the FAA, Transport Airplane Directorate, 1601 Lind Avenue, SW., Renton, Washington; or at the Office of the Federal Register, 800 North Capitol Street, NW., suite 700, Washington, DC.

Note 5: The subject of this AD is addressed in Swedish airworthiness directives 1-113R1 and 1-114R1, both dated September 8, 1998.

Effective Date

(i) This amendment becomes effective on September 20, 2000.

Issued in Renton, Washington, on August 8, 2000.
Donald L. Riggin,
Acting Manager, Transport Airplane Directorate, Aircraft Certification Service.

[FR Doc. 00-20503 Filed 8-15-00; 8:45 am]

BILLING CODE 4910-13-P